DEPARTMENT OF THE INTERIOR

Bureau of Land Management

[AA-6661-E, AA-6661-H, AA-6661-I, AA-6661-A2; 212-LLAK944200-L14100000-HY0000]

Alaska Native Claims Selection

AGENCY: Bureau of Land Management, Interior.

ACTION: Notice of modified decision approving lands for conveyance.

SUMMARY: The Bureau of Land Management hereby provides constructive notice that it will issue an appealable decision modifying its September 9, 2015 decision (“original decision”) which approved lands for conveyance to Eklutna, Inc., pursuant to the Alaska Native Claims Settlement Act of 1971. The original decision will be modified to make changes to public access easements to be reserved to the United States, to navigability information, and to make a technical correction. Notice of the original decision was published in the Federal Register on September 9, 2015.

DATES: Any party claiming a property interest in the lands affected by the modifications may appeal the decision in accordance with the requirements of 43 CFR part 4 within the time limits set out in the SUPPLEMENTARY INFORMATION section.

ADDRESSES: You may obtain a copy of either or both decisions from the Bureau of Land Management, Alaska State Office, 222 West Seventh Avenue, #13, Anchorage, Alaska 99513-7504.

FOR FURTHER INFORMATION CONTACT: Christy Favorite, BLM Alaska State Office, at 907-271-5595, or cfavorit@blm.gov. The BLM Alaska State Office may also be contacted via Telecommunications Device for the Deaf (TDD) through the Federal Relay Service at 1-800-877-8339. The relay service is available 24 hours a day, 7 days a week, to leave a message or question with the BLM. The BLM will reply during normal business hours.

SUPPLEMENTARY INFORMATION: As required by 43 CFR 2650.7(d), notice is hereby given that the decision approving lands for conveyance to Eklutna, Inc., for the Native village of Eklutna, pursuant to the Alaska Native Claims Settlement Act of 1971 (ANCSA), notice of which was published in the Federal Register on September 9, 2015, 80 FR 54319, will be modified in accordance with the Settlement Agreement entered into by and between the State of Alaska, Eklutna, Inc., and the United States on April 11, 2017, as amended on April 22, 2020. The modifications will be made by issuance of a decision setting out the following changes:

1. Adding three (3) easements not listed in the decision of September 9, 2015, to those to be reserved to the United States pursuant to Sec. 17(b) of ANCSA in the subsequent conveyance document;

2. Redescribing four (4) easements listed in the decision of September 9, 2015, to be reserved to the United States pursuant to Sec. 17(b) of ANCSA in the subsequent conveyance document;

3. Updating the navigability language to reflect the Bureau of Land Management's June 2017 determination that the Knik River is navigable; and

4. Making a technical correction to the interests and requirements to which the subsequent conveyance of lands will be made subject.

Notice of the modified decision will also be published once a week, for four consecutive weeks, in the Anchorage Daily News.

Any party claiming a property interest in the lands affected by the changes made in the modified decision may appeal the decision in accordance with the requirements of 43 CFR part 4 within the following time limits:

1. Unknown parties, parties unable to be located after reasonable efforts have been expended to locate, parties who fail or refuse to sign their return receipt, and parties who receive a copy of the decision by regular mail which is not certified, return receipt requested, shall have until May 14, 2021 to file an appeal.

2. Parties receiving service of the decision by certified mail shall have 30 days from the date of receipt to file an appeal.

Parties who do not file an appeal in accordance with the requirements of 43 CFR part 4 shall be deemed to have waived their rights. Notices of appeal transmitted by facsimile will not be accepted as timely filed.

Except as modified, the decision of September 9, 2015, notice of which was given on September 9, 2015, is final.

Carolyn Favorite,
Senior Technical Specialist, Division of Lands and Cadastral.

[FR Doc. 2021-07607 Filed 4-13-21; 8:45 am]

BILLING CODE 4310-JA-P